DEPARTMENT OF THE INTERIOR

National Park Service

[NPS-AKR-KOVA; 9924-PYS]

Alaska Region's Subsistence Resource Commission (SRC) Program

AGENCY: National Park Service, Interior.

ACTION: Notice of public meeting for the National Park Service (NPS) Alaska Region's Subsistence Resource Commission (SRC) program.

SUMMARY: The November 15, 2011, meeting of the Kobuk Valley National Park SRC, previously announced in the Federal Register Volume 76, Number 202 (Wednesday, October 19, 2011), was canceled due to a lack of quorum caused by inclement Arctic weather conditions. The NPS has rescheduled this meeting to occur on Wednesday, February 15, 2012, in Kotzebue, Alaska. The Kobuk Valley National Park SRC will meet to develop and continue work on NPS subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat .770) requires that public notice of this meeting be announced in the Federal Register.

Public Availability of Comments: This meeting is open to the public and will have time allocated for public testimony. The public is welcome to present written or oral comments to the SRC. This meeting will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

If the meeting date and location are changed, a notice will be published in local newspapers and announced on local radio stations prior to the meeting date. SRC meeting locations and dates may need to be changed based on inclement weather or exceptional circumstances.

Kobuk Valley National Park SRC Meeting Date and Location: The Kobuk Valley National Park SRC will meet at the National Park Service Northwest Arctic Heritage Center, 171 Third Avenue in Kotzebue, Alaska, (907) 442-3890, on Wednesday, February 15, 2012. The meeting will start at 9 a.m. and conclude at 5 p.m. or until business is completed.

For Further Information On the Kobuk Valley National Park SRC Meeting Contact: Frank Hays, Superintendent, or Willie Goodwin, Subsistence Community Liaison, at (907) 442-3890 or Ken Adkisson, Subsistence Manager, at (907) 443-2522 or Clarence Summers, Subsistence Manager, NPS Alaska Regional Office, at (907) 644-3603. If you are interested in applying for Kobuk Valley National Park SRC membership, contact the Superintendent at P.O. Box 1029, Kotzebue, AK 99752, (907) 442-3890, or visit the park Web site at: http://www.nps.gov/kova/contacts.htm.

Proposed SRC Meeting Agenda

The proposed meeting agenda for each meeting includes the following:

1. Call to Order

2. Welcome and Introductions

3. Administrative Announcements

4. Approve Agenda

5. Approval of Minutes

a. SRC Purpose

b. SRC Membership

6. SRC Member Reports/Comments

7. National Park Service Reports

a. Superintendent Updates

1. Unit 23 User Issues

2. Local Hire/Internship

3. Cross Cultural Education

4. Consultation and Coordination With Indian Tribal Governments

5. Protection of Archaeological Resources & Consultation Requirements

6. Climate Change Research

b. Subsistence Manager Updates

c. Resource Management Updates

d. Ranger Updates (Education, Resources and Visitor Protection)

8. Federal Subsistence Board Updates

9. Alaska Board of Game Updates

10. Old Business

a. Subsistence Collections and Uses of Shed or Discarded Animal & Plants Environmental Assessment Update

b. Gates of the Arctic Hunting Plan Recommendations Update

11. New Business

12. Public and Other Agency Comments

13. SRC Work Session

14. Select Time and Location for Next Meeting

15. Adjourn Meeting

Debora R. Cooper,
Associate Regional Director, Resources and Subsistence, Alaska Region.

[FR Doc. 2012-1872 Filed 1-27-12; 8:45 am]

BILLING CODE 4312-HP-P